DEPARTMENT OF HOUSING AND URBAN DEVELOPMENT

[Docket No. FR-5997-N-40]

30-Day Notice of Proposed Information Collection: Section 8 Renewal Policy Guide

AGENCY: Office of the Chief Information Officer, HUD.

ACTION: Notice.

SUMMARY: HUD submitted the proposed information collection requirement described below to the Office of Management and Budget (OMB) for review, in accordance with the Paperwork Reduction Act. The purpose of this notice is to allow for 30 days of public comment.

DATES: Comments Due Date: August 30, 2017.

ADDRESSES: Interested persons are invited to submit comments regarding this proposal. Comments should refer to the proposal by name and/or OMB Control Number and should be sent to: HUD Desk Officer, Office of Management and Budget, New Executive Office Building, Washington, DC 20503; fax: 202-395-5806, Email: OIRA Submission@omb.eop.gov.

FOR FURTHER INFORMATION CONTACT: Inez C. Downs, Reports Management Officer, QMAC, Department of Housing and Urban Development, 451 7th Street SW., Washington, DC 20410; email Inez.C.Downs@hud.gov, or telephone 202-402-8046. This is not a toll-free number. Person with hearing or speech impairments may access this number through TTY by calling the toll-free Federal Relay Service at (800) 877-8339.

Copies of available documents submitted to OMB may be obtained from Ms. Downs.

SUPPLEMENTARY INFORMATION: This notice informs the public that HUD is seeking approval from OMB for the information collection described in Section A.

The Federal Register notice that solicited public comment on the information collection for a period of 60 days was published on May 11, 2017 at 82 FR 22015.

A. Overview of Information Collection

Title of Information Collection: Section 8 Renewal Policy Guide.

OMB Approval Number: 2502-0587.

Type of Request: Extension of currently approved collection.

Form Number: HUD-9624, HUD-9625, HUD-9626, HUD-9627, HUD-9629, HUD-9630, HUD-9631, HUD-9632, HUD-9634, HUD-9635, HUD-9636, HUD-9637, HUD-9639, HUD-9640, HUD-9641, HUD-9642, HUD-9643, HUD-9644, HUD-9646, HUD-9648A, HUD-9648D, HUD-9649, HUD-9651, HUD-93181, HUD-93182, and HUD-93184.

Description of the need for the information and proposed use: The modifications of the Section 8 renewal policy and recent legislation are implemented to address the essential requirement to preserving low income rental housing affordability and availability. The Section 8 Renewal Policy Guide will include recent legislation modifications for renewing of expiring Section 8 policy(ies) Guidebook, as authorized by the 24 CFR part 401 and 24 CFR part 402. The Multifamily Housing Reform and Affordability Act of 1997 (MAHRA) for Fiscal Year 1998 (Pub. L. 105-65, enacted on October 27, 1997), required that expiring Section 8 project-based assistance contracts be renewed under MAHRA. Established in the MAHRA policies renewal of Section 8 project-based contracts rent is based on market rents instead of the Fair Market Rent (FMR) standard.

MAHRA renewals submission should include a Rent Comparability Study (RCS). If the RCS indicated rents were at or below comparable market rents, the contract was renewed at current rents adjusted by Operating Cost Adjustment Factor (OCAF), unless the Owner submitted documentation justifying a budget-based rent increase or participation in Mark-Up-To-Market. The case is that no renewal rents could exceed comparable market rents. If the RCS indicated rents were above comparable market rents, the contract was referred to the Office of Affordable Housing Preservation (OAHP) for debt restructuring and/or rent reduction. The Preserving Affordable Housing for Senior Citizens and Families in to the 21st Century Act of 1999 (public law 106-74, enacted on October 20, 1999), modified MAHRA.

The Section 8 Renewal Policy Guide sets forth six renewal options from which a project owner may choose when renewing their expiring Section 8 contract: Option One—Mark-Up-To-Market, Option Two—Other Contract Renewal with Current Rents at or Below Comparable Market Rents, Option Three—Referral to the Office of Affordable Preservation (OAHP), Option Four—Renewal of Projects Exempted From OMHAR, Option Five—Renewal of Portfolio Reengineering Demonstration or Preservation Projects, and Option Six—Opt Outs. Owners should select one of six options which are applicable to their project and should submit contract renewal on an annual basis to renew contract.

The Section 8 Renewal Guide sets forth six renewal options from which a project owner may choose when renewing their expiring Section 8 contracts. Option One (Mark-Up-To-Market), Option Two (Other Contract Renewals with Current Rents at or Below Comparable Market Rents), Option Three (Referral to the Office of Multifamily Housing Assistant Restructuring—OHAP), Option Four (Renewal of Projects Exempted from OHAP), Option Five (Renewal of Portfolio Reengineering Demonstration or Preservation Projects), and Option Six (Opt-Outs).

Respondents: (i.e. affected public) Business or other for profit and nonprofit.

Estimated Number of Respondents: 25,439.

Estimated Number of Responses: 25,439.

Frequency of Response: On occasion.

Average Hours per Response: 1 hour.

Total Estimated Burden: 24,680.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond: Including through the use of appropriate automated collection techniques or other forms of information technology, e.g., permitting electronic submission of responses. HUD encourages interested parties to submit comment in response to these questions.

Authority: Section 3507 of the Paperwork Reduction Act of 1995, 44 U.S.C. Chapter 35.

Date: July 11, 2017.
Inez C. Downs,
Department Reports Management Officer, Office of the Chief Information Officer.

[FR Doc. 2017-16045 Filed 7-28-17; 8:45 am]

BILLING CODE 4210-67-P